DEPARTMENT OF LABOR

Office of the Secretary

Submission for OMB Review: Comment Request

February 20, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including, among other things, a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Occupational Safety and Health Administration (OSHA), Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection

Title of Collection: 1,2-Dibromo-3-Chloropropane (DBCP) Standard (29 CFR 1910.1044).

OMB Control Number: 1218-0101.

Affected Public: Business or other for-profits.

Estimated Number of Respondents: 1.

Estimated Total Annual Burden Hours: 1.

Estimated Total Annual Costs Burden: $0.

Description: The purpose of DBCP Standard is to provide protection for employees from the adverse health effects caused by occupational exposure to DBCP. To ensure that employees are receiving this protection, the Standard requires employers to provide OSHA with access to various records. However, no employers are currently producing or using DBCP; therefore, the Standard imposes no cost burdens on employers. For additional information, see the related 60-day preclearance notice published in the Federal Register at Vol. 73 FR 58983 on October 8, 2008. PRA documentation prepared in association with the preclearance notice is available on http://www.regulations.gov under docket number OSHA-2008-0038.

Agency: Occupational Safety and Health Administration.

Type of Review: Extension without change of a previously approved collection.

Title of Collection: Cadmium in General Industry Standard (29 CFR 1910.1027).

OMB Control Number: 1218-0185.

Affected Public: Business or other for-profits.

Estimated Number of Respondents: 53,161.

Estimated Total Annual Burden Hours: 92,259.

Estimated Total Annual Costs Burden: $4,644,185.

Description: The purpose of this standard and its information collection requirements is to provide protection for employees from the adverse health effects that may result from occupational exposure to cadmium. The major information collection requirements in the Standard include conducting employee exposure monitoring, notifying employees of their cadmium exposures, implementing a written compliance program, implementing medical surveillance of employees, providing examining physicians with specific information, ensuring that employees receive a copy of their medical surveillance results, maintaining employees' exposure monitoring and medical surveillance records for specific periods, and providing access to these records by OSHA, the National Institute for Occupational Safety and Health, the employee who is the subject of the records, the employee's representative, and other designated parties. For additional information, see the related 60-day preclearance notice published in the Federal Register at Vol. 73 FR 74199 on December 5, 2008. PRA documentation prepared in association with the preclearance notice is available on http://www.regulations.gov under docket number OSHA-2008-0052.

Agency: Occupational Safety and Health Administration.

Type of Review: Extension without change of a previously approved collection.

Title of Collection: Cadmium in Construction Standard (29 CFR 1926.1127).

OMB Control Number: 1218-0186.

Affected Public: Business or other for-profits.

Estimated Number of Respondents: 10,000.

Estimated Total Annual Burden Hours: 39,331.

Estimated Total Annual Costs Burden: $1,775,457.

Description: The Cadmium in Construction Standard requires employers to protect employees from the adverse health effects that may result from their exposure to cadmium. The major information collection requirements in the Standard include conducting employee exposure monitoring, notifying employees of their cadmium exposures, implementing a written compliance program, implementing medical surveillance of employees, providing examining physicians with specific information, ensuring that employees receive a copy of their medical surveillance results, maintaining employees' exposure monitoring and medical surveillance records for specific periods, and providing access to these records by OSHA, the National Institute for Occupational Safety and Health, the employee who is the subject of the records, the employee's representative, and other designated parties. For additional information, see the related 60-day preclearance notice published in the Federal Register at Vol. 73 FR 74197 on December 5, 2008. PRA documentation prepared in association with the preclearance notice is available on http://www.regulations.gov under docket number OSHA-2008-0051.

Agency: Occupational Safety and Health Administration.

Type of Review: Extension without change of a previously approved collection.

Title of Collection: Asbestos in Shipyards (29 CFR 1915.1001).

OMB Control Number: 1218-0195.

Affected Public: Business or other for-profits.

Estimated Number of Respondents: 316.

Estimated Total Annual Burden Hours: 1,624.

Estimated Total Annual Costs Burden: $37,798.

Description: The information collection requirements specified in the Asbestos in Shipyards Standard protect employees from the adverse health effects that may result from occupational exposure to asbestos. The major information collection requirements in the Standard include:

Implementing an exposure monitoring program that informs employees of their exposure-monitoring results;

At multi-employer worksites, notification of other on-site employers by employers establishing regulated areas for the type of work performed with asbestos-containing materials (ACMs) and/or presumed asbestos-containing materials (PACMs), the requirements that pertain to regulated areas and the measures the employers can use to protect their employees from asbestos overexposure;

Developing specific information and training programs for employees;

Providing medical surveillance for employees potentially exposed to ACMs and/or PACMs, including administering an employee medical questionnaire, providing information to the examining physician, and providing the physician's written opinion to the employee; and

Maintaining records of objective data used for exposure determinations, employee exposure monitoring and medical surveillance records, training records, the record (i.e., information, data, and analyses) used to demonstrate that PACM does not contain asbestos, and notifications made and received by building/facility owners regarding the content of ACMs and PACMs. For additional information, see the related 60-day preclearance notice published in the Federal Register at Vol. 73 FR 65683 on November 4, 2008. PRA documentation prepared in association with the preclearance notice is available on http://www.regulations.gov under docket number OSHA-2008-0048.

Agency: Occupational Safety and Health Administration.

Type of Review: Extension without change of a previously approved collection.

Title of Collection: Longshoring and Marine Terminal Operations (29 C.F.R. parts 1918 and 1917, respectively).

OMB Control Number: 1218-0196.

Affected Public: Business or other for-profits.

Estimated Number of Respondents: 750.

Estimated Total Annual Burden Hours: 35,948.

Estimated Total Annual Costs Burden: $0.

Description: The Standards on Longshoring and Marine Terminal Operations contain a number of collections of information which are used by employers to ensure that employees are informed properly about the safety and health hazards associated with longshoring and marine terminal operations. OSHA uses the records developed in response to the collection of information requirements to find out if employers are complying adequately with the provisions of the Standards. For additional information, see the related 60-day preclearance notice published in the Federal Register at Vol. 73 FR 74527 on December 8, 2008. A corrections notice to this Federal Register notice was published at Vol. 73 FR 77074 on December 18, 2008. PRA documentation prepared in association with the preclearance notice is available on http://www.regulations.gov under docket number OSHA-2008-0050.

Agency: Occupational Safety and Health Administration.

Type of Review: Extension without change of a previously approved collection.

Title of Collection: Hazardous Waste Operations and Emergency Response (HAZWOPER) (29 CFR 1910.120).

OMB Control Number: 1218-0202.

Affected Public: Business or other for-profits.

Estimated Number of Respondents: 34,812.

Estimated Total Annual Burden Hours: 1,199,954.

Estimated Total Annual Costs Burden: $3,111,762.

Description: Section 126(e) of the “Superfund Amendments and Reauthorization Act of 1986” (SARA) (Pub. L. 99-499) which became law on October 17, 1986, required the Secretary of Labor, pursuant to Section 6 of the Occupational Safety and Health Act of 1970 (the Act), to promulgate standards for the safety and health protection of employees engaged in hazardous waste operations and emergency response. Section 126(a) of SARA also specified that those standards were to become effective a year after publication. Section 126(b) lists 11 worker protection provisions that the Secretary of Labor had to include in OSHA's final standard. Those provisions require OSHA to address the preparation of various written programs, plans and records; the training of employees; the monitoring of airborne hazards; the conduct of medical surveillance; and the distribution of information to employees. The provisions also require the collection of information from employers engaged in hazardous waste operations and their emergency response to such operations. The final standard covers the provisions mandated in SARA. For additional information, see the related 60-day preclearance notice published in the Federal Register at Vol. 73 FR 77072 on December 18, 2008. PRA documentation prepared in association with the preclearance notice is available on http://www.regulations.gov under docket number OSHA-2008-0049.

Darrin A. King,
Departmental Clearance Officer.

[FR Doc. E9-4234 Filed 2-26-09; 8:45 am]

BILLING CODE 4510-26-P